DEPARTMENT OF COMMERCE

National Oceanic and Atmospheric Administration

Evaluation of California Coastal Management Program; Change of Meeting Location

AGENCY: Office of Ocean and Coastal Resource Management, National Ocean Service, National Oceanic and Atmospheric Administration (NOAA), DOC.

ACTION: Notice of change of meeting location.

SUMMARY: On May 3, 2001, the NOAA Office of Ocean and Coastal Resource Management (OCRM) announced its intent to evaluate the performance of the California Coastal Management Program/California Coastal Commission. This Coastal Zone Management Program evaluation will be conducted pursuant to section 312 of the Coastal Zone Management Act of 1972 (CZMA), as amended and regulations at 15 CFR Part 923.

The site visit for this evaluation is June 5-13, 2001, and two public meetings are being held, June 6, and June 11, 2001, as part of the site visit.

Notice is hereby given of a change of location of the second public meeting to be held June 11, 2001. The new public meeting location is: The Los Angeles Airport Marriott, Philadelphia Room, 5855 W. Century Blvd., Los Angeles, California 90045.

FOR FURTHER INFORMATION CONTACT: Douglas Brown, Acting Deputy Director, Office of Ocean and Coastal Resource Management, NOS/NOAA, 1305 East-West Highway, Silver Spring, Maryland 20910, (301) 713-3155, Extension 215.

Dated: May 14, 2001.
Ted I. Lillestolen,
Deputy Assistant Administrator for Ocean Services and Coastal Zone Management.

[FR Doc. 01-12483 Filed 5-16-01; 8:45 am]

BILLING CODE 3510-18-M